DEPARTMENT OF TRANSPORTATION

National Highway Traffic Safety Administration

[Docket No. NHTSA 2005-21858]

Performance of Advanced Crash Avoidance Systems; Request for Information

AGENCY: National Highway Traffic Safety Administration (NHTSA), Department of Transportation.

ACTION: Notice; Request for Information and Expression of Interest in Research Program.

SUMMARY: The National Highway Traffic Safety Administration (NHTSA) is seeking information from all sources for its Advanced Crash Avoidance Technologies Program (ACAT). The ACAT program seeks to determine the safety impact of new and emerging technologies that are intended to help drivers avoid crashes, reduce the severity, and prevent injuries.

DATES: Responses to this announcement should be submitted on or before August 18, 2005. See the Supplementary Information section for electronic access and filing addresses.

Note: This is neither a Request for Proposals nor an Invitation for Bids.

ADDRESSES: You may submit comments identified by the DOT DMS Docket Number above by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Note that all comments received will be posted without change to http://dms.dot.gov, including any personal information provided. Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Raymond Resendes, Office of Vehicle Safety Research, NHTSA, NVS-332, 400 Seventh Street, SW., Washington, DC 20590 (telephone: (202) 366-2619, fax: (202) 366-7237).

SUPPLEMENTARY INFORMATION: The automotive industry has made significant progress in the development of advanced technologies that may offer the promise of reducing many crashes and their severities. Advanced technologies that include sensing, computing, positioning, and communications may have the ability to help drivers avoid imminent crashes or the events that often lead to crashes and reduce the severity of crashes that do occur. For example, some of these technologies address preventing rollovers, improving visibility, reducing tailgating and speed related crashes.

The effectiveness of these systems in reducing crashes is not well understood. Therefore, NHTSA is initiating a research program that seeks to answer the following questions:

1. What advanced vehicle features help to avoid a crash, and reduce crash severity when it occurs?

2. In what situations do these features work?

3. How effective are these features in preventing crashes and reducing their severity and protecting vehicle occupants?

NHTSA is implementing the program plan described below as the means of answering the above three questions with objective information on the performance capabilities of advanced safety features. NHTSA hopes that partnerships with motor vehicle manufacturers and suppliers will play an important role in the program. As part of this request for information, we are seeking expressions of interest in such partnerships. It is NHTSA's hope that this program will build on the successes achieved in other cooperative programs, such as the Intelligent Transportation Systems program.

Program Plan: The following series of tasks will be used to develop tests and procedures for specific devices and systems:

Task 1—Priority Candidates: (1) Identify new or emerging technologies or systems that are priority candidates for evaluation in this program. (2) Develop a “top-level” engineering description of performance for each candidate. (3) Create a roadmap between performance features and relevant elements of the problem description. (4) Develop a subjective estimate of the impact of the system or technology on each relevant element of the problem description.

Task 2—Safety Impact Methodology: (1) Develop the methodology for incorporation of all relevant information into credible estimates of safety impact. (2) Create a computational framework that provides consistent results. (3) Create a standard set of descriptions for the distribution of crash types and causal factors. This will be a comprehensive description of the crash problem and crash and injury causation. The comprehensive description must be useable as a point of reference in assessing performance of systems or technologies. The problem descriptions will be coordinated with vehicle safety experts to assure that they are universally adopted as the basis for discussion of activities and studies. Variations on the framework will be necessary to accommodate all aspects of safety impact; including crash prevention, injury mitigation, effects of distraction, etc. Any technology that is already in production will have associated real-world crash data. This source needs to be incorporated in the general framework.

Task 3—Objective Tests: (1) Develop objective tests that can address the salient features of system performance. (2) Connect each feature of system performance to either a reduction in the likelihood that a risky situation will develop or the likelihood that a crash will occur in a specific situation. The definitions of the situations are derived from descriptions of situations in the problem description; translate each feature of system performance into a generic test condition. Each test condition must have the potential to be objective and repeatable.

The following steps are involved in determining the safety potential of candidate technologies: (1) Establish “representative” values, or range of values, for each parameter in the test condition. Input from crash data files plus physical reasoning, perhaps supplemented by models and simulation, will be used to select appropriate values. (2) Determine appropriate metrics and use them to measure system performance.

These metrics must have a quantifiable relationship to either the level of exposure to risky situations or the level of crash prevention, severity reduction, and occupant protection potential of various advanced vehicle technologies.

Task 4—Performance Testing: In this task specific candidate technologies and systems will be identified to assess their performance. Systems that have the potential of degrading safety performance will be included for evaluation. Systems will be selected based on their potential safety impact (positive or negative) and level of market readiness. Specific full system test/tests will be developed for the selected systems. The tests performed under this task may be test-track, driving simulator, and/or reduced scale laboratory tests.

Task 5—Analysis and Reporting: The results will be analyzed in accordance with the methodology previously defined and the estimates of safety benefits will be computed. After agency review, this information will be shared with industry and the public via NHTSA's existing communication mechanisms.

Information Requested: The purpose of this document is to collect information about advanced technologies and their impact on automotive safety, and expressions of interest in participating in cooperative activities in order to assist NHTSA in developing and implementing the ACAT Program. Researchers and technical experts from automotive original equipment manufacturers (OEMs), their suppliers, and other interested parties that are able to collaborate with OEMs and Tier 1 suppliers are invited to submit technical information that responds to the following questions:

1. What are the qualifications of the responder?

2. Please describe the advanced crash avoidance and other safety technologies that your organization is developing?

3. What safety problem (i.e., crash type, causal factors, and critical events) do these systems address?

4. Do methodologies or procedures and data exist to objectively test the ability of these systems to address specific crash problems?

5. Do you have suggestions on how to identify unintended consequences, such as driver adaptation, and their impact prior to the widespread deployment of these systems?

6. Do you have any suggestions on how to improve the program?

NHTSA believes that partnerships with the motor vehicle industry are an important element of this program. As part of this request for information, we are seeking expressions of interest in participating in any of the following:

a. Participating in a cooperative agreement to develop objective test procedures,

b. Providing systems to support the development of objective test procedures,

c. Providing existing test procedures or data.

Written Statements, Presentations, and Comments: We will consider all comments that Docket Management receives before the close of business on the comment closing date indicated above under DATES. To the extent possible, we will also consider comments that Docket Management receives after that date.

For written materials, two copies should be submitted to Docket Management at the address given at the beginning of this document. The materials must not exceed 15 pages in length (49 CFR 553.21). Necessary attachments may be appended to the submissions without regard to the 15-page limit. This limitation is intended to encourage commenters to detail their information in a concise fashion.

If a commenter wishes to submit certain information under a claim of confidentiality, three copies of the complete submission, including purportedly confidential business information, should be submitted to the Chief Counsel, NHTSA, at 400 Seventh Street, SW., Washington, DC 20590. Additionally, two copies of the above document from which the purportedly confidential information has been deleted should be submitted to Docket Management. A request for confidentiality should be accompanied by a cover letter setting forth the information specified in the agency's confidential business information regulation, 49 CFR part 512.

Issued on: July 13, 2005.
Joseph N. Kanianthra,
Associate Administrator for Vehicle Safety Research.

[FR Doc. 05-14107 Filed 7-18-05; 8:45 am]

BILLING CODE 4910-59-P